DEPARTMENT OF DEFENSE

Department of the Navy

Notice of Public Hearings for a Draft Overseas Environmental Impact Statement/Environmental Impact Statement for the Undersea Warfare Training Range

AGENCY: Department of the Navy, DOD.

ACTION: Notice.

SUMMARY: Pursuant to Executive Order 12114, Environmental Effects Abroad of Major Federal Actions, and Section 102(2) of the National Environmental Policy Act (NEPA) of 1969 as implemented by the Council on Environmental Quality regulations (40 CFR Parts 1500-1508), the Department of the Navy (Navy) has prepared and filed with the U.S. Environmental Protection Agency a Draft Overseas Environmental Impact Statement/Environmental Impact Statement (Draft OEIS/EIS) to evaluate the construction and operation of a proposed Undersea Warfare Training Range. In accordance with NEPA and its implementing regulations, this notice announces the dates and locations of public hearings.

Open information sessions will precede the scheduled public hearing at each of the locations listed below and will allow individuals to review the data presented in the Draft OEIS/EIS. Navy representatives will be available during the information sessions to clarify information related to the Draft OEIS/EIS. The open information sessions are scheduled from 3:30 p.m. to 5:30 p.m. and from 6:30 to 7 p.m., followed by the public hearings from 7 p.m. to 9:30 p.m.

DATES: Public hearing dates are as follows:

1. Tuesday, November 15, 2005, 7 p.m. to 9:30 p.m., Chincoteague, VA.

2. Thursday, November 17, 2005, 7 p.m. to 9:30 p.m., Morehead City, NC.

3. Monday, November 21, 2005, 7 p.m. to 9:30 p.m., Jacksonville, FL.

ADDRESSES: Public hearing locations are as follows:

1. Chincoteague—Chincoteague Community Center, 6155 Community Drive, Chincoteague, VA 23336.

2. Morehead City—Crystal Coast Civic Center, 3505 Arendell Street, Morehead City, NC 28557.

3. Jacksonville—Wilson Center for the Arts, Florida Community College, Jacksonville South Campus, 119091 Beach Boulevard, Jacksonville, FL 32246.

FOR FURTHER INFORMATION CONTACT: Mr. Keith Jenkins, Naval Facilities Engineering Command Atlantic, (Code EV21KJ), 6506 Hampton Boulevard, Norfolk, VA 23508; telephone: 757-322-4046; Fax: 757-322-4894.

SUPPLEMENTARY INFORMATION: The proposed action is to instrument a 1,713-square-kilometer (500-square-nautical-mile) area of the ocean with undersea cables and sensor nodes, creating an Undersea Warfare Training Range (USWTR), and to use the area for Anti-Submarine Warfare (ASW) training. Such training would typically involve up to three vessels and two aircraft using the range for any one training event. The instrumented area would be connected to the shore via a single trunk cable. The proposed action would require logistical support for ASW training, including the handling (launch and recovery) of exercise torpedoes (non-explosive) and submarine target simulators.

The Navy requires an instrumented undersea warfare training range to support worldwide deployment and current and future mission requirements in fulfillment of the U.S. world role and the Global War on Terror, and to counter the threat of modern diesel submarines. The proposed USWTR provides an environment that is consistent with real-world threat situations where training exercises can be conducted under safe and controlled conditions, as well as providing critically important real-time training feedback. The purpose of the proposed action is to enable the Navy to train effectively in an environment encompassing 37 to 274 meters (120 to 900 feet) water depth at a suitable location for Atlantic Fleet units.

The Draft OEIS/EIS reviews a thorough site selection process and describes in detail three reasonable siting alternatives located within existing east coast Operating Areas (OPAREAS). The action alternatives considered are Alternative/Site A in the Cherry Point OPAREA, Alternative/Site B in the Virginia Capes OPAREA, and Alternative/Site C in the Jacksonville OPAREA. These three potential sites, along with the No Action Alternative, are evaluated in the Draft OEIS/EIS. Site A in the Cherry Point OPAREA is the Navy's preferred alternative.

The potentially affected areas of the preferred site (in the Cherry Point OPAREA) and the alternate sites (within the Virginia Capes and Jacksonville OPAREAS) have been studied in detail to determine how installation of and operations on the proposed USWTR would potentially affect the marine and landside environments.

The Draft OEIS/EIS has been distributed to various Federal, state, and local agencies, as well as other interested individuals and organizations. In addition, copies of the Draft OEIS/EIS have been distributed to the following libraries for public review:

1. Virginia Beach Central Library, 4100 Virginia Beach Boulevard, Virginia Beach, VA 23452.

2. Eastern Shore Public Library, 23610 Front Street, Accomac, VA 23301.

3. Chincoteague Island Library, 4077 Main Street, Chincoteague Island, VA 23336.

4. Carteret County Public Library, 210 Turner Street, Beaufort, NC 28516.

5. Onslow County Public Library, 58 Doris Avenue East, Jacksonville, NC 28540.

6. Jacksonville Public Library, Regency Square Branch, 9900 Regency Boulevard, Jacksonville, FL 32225.

An electronic copy of the Draft OEIS/EIS is also available for public viewing at: http://projects.earthtech.com/USWTR/. Single copies of the Draft OEIS/EIS and Executive Summary are available upon request by contacting Mr. Keith Jenkins at 757-322-4046.

Federal, state, and local agencies and interested parties are invited and urged to be present or represented at the hearing. Written comments can also be submitted during the information sessions preceding the public hearings. Oral statements will be heard and transcribed by a stenographer; however, to ensure the accuracy of the record, all statements should be submitted in writing. All statements, both oral and written, will become part of the public record on the Draft OEIS/EIS and will be addressed in the Final Overseas Environmental Impact Statement/Environmental Impact Statement (Final OEIS/EIS). Equal weight will be given to both oral and written statements.

In the interest of available time, and to ensure all who wish to give an oral statement have the opportunity to do so, each speaker's comments will be limited to three (3) minutes. If a longer statement is to be presented, it should be summarized at the public hearing and the full text submitted in writing either at the hearing or mailed or faxed to: Naval Facilities Engineering Command Atlantic, Attn: Mr. Keith Jenkins (Code EV21KJ), 6506 Hampton Boulevard, Norfolk, VA 23508; Fax 757-322-4894.

All written comments must be postmarked by December 28, 2005, to ensure they become part of the official record. All comments will be addressed in the Final OEIS/EIS.

Dated: October 20, 2005.
I.C. Le Moyne, Jr.
Lieutenant Commander, Judge Advocate General's Corps, U.S. Navy, Alternate Federal Register Liaison Officer.

[FR Doc. 05-21511 Filed 10-27-05; 8:45 am]

BILLING CODE 3810-FF-P